OFFICE OF PERSONNEL MANAGEMENT

5 CFR Part 532

RIN 3206-AK96

Prevailing Rate Systems; Change in the Survey Cycle for the Harrison, MS, Nonappropriated Fund Federal Wage System Wage Area

AGENCY: Office of Personnel Management.

ACTION: Final rule.

SUMMARY: The Office of Personnel Management is issuing a final rule to change the timing of local wage surveys in the Harrison, Mississippi, nonappropriated fund Federal Wage System wage area. The purpose of this change is to avoid conducting future surveys in this area during the hurricane season.

DATES: This rule is effective on March 1, 2006.

FOR FURTHER INFORMATION CONTACT: Madeline Gonzalez, (202) 606-2838; e-mail pay-performance-policy@opm.gov; or FAX: (202) 606-4264.

SUPPLEMENTARY INFORMATION: On October 31, 2005, the Office of Personnel Management (OPM) issued an interim rule (70 FR 62229) to change the full-scale survey cycle for the Harrison, Mississippi, nonappropriated fund (NAF) Federal Wage System (FWS) wage area from October of each even-numbered fiscal year to March of each even-numbered fiscal year. The interim rule had a 30-day public comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Office of Personnel Management.
Linda M. Springer,
Director.

Accordingly, under the authority of 5 U.S.C. 5343, the interim rule published on October 31, 2005, amending 5 CFR part 532 (70 FR 62229) is adopted as final with no changes.

[FR Doc. 06-828 Filed 1-27-06; 8:45 am]

BILLING CODE 6325-39-P